ENVIRONMENTAL PROTECTION AGENCY

[EPA-HQ-OPP-2012-0748; FRL-9373-6]

Halofenozide; Cancellation Order for All Pesticide Registrations and Termination of All Uses

AGENCY: Environmental Protection Agency (EPA).

ACTION: Notice.

SUMMARY: This notice announces EPA's order for the cancellation and termination of all uses, voluntarily requested by the registrants and accepted by the Agency, of products containing halofenozide, pursuant to the Federal Insecticide, Fungicide, and Rodenticide Act (FIFRA). This cancellation order follows a September 26, 2012 Federal Register Notice of Receipt of Requests from the registrants listed in Table 2 of Unit II. to voluntarily cancel and terminate all uses of these product registrations. These are the last products containing this pesticide registered for use in the United States. In the September 26, 2012 notice, EPA indicated that it would issue an order implementing the cancellation and terminate all uses, unless the Agency received substantive comments within the 30-day comment period that would merit its further review of these requests, or unless the registrants withdrew their requests. The Agency did not receive any comments on the notice. Further, the registrants did not withdraw their requests. Accordingly, EPA hereby issues in this notice a cancellation order granting the requested cancellation and use termination. Any distribution, sale, or use of the products subject to this cancellation order is permitted only in accordance with the terms of this order, including any existing stocks provisions.

DATES: The cancellations are effective December 21, 2012.

FOR FURTHER INFORMATION CONTACT: Kaitlin Keller, Pesticide Re-evaluation Division (7508P), Office of Pesticide Programs, Environmental Protection Agency, 1200 Pennsylvania Ave. NW., Washington, DC 20460-0001; telephone number: (703) 308-8172; fax number: (703) 308-8005; email address: keller.kaitlin@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2012-0748, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellation and termination of all uses, as requested by registrants, of products registered under FIFRA section 3. These registrations are listed in sequence by registration number in Table 1 of this unit.

Table 1—Halofenozide Product Cancellations
EPA Registration No. | Product name
038167-0029 | Mach 2 1.5G.
062719-0470 | Halofenozide Technical Insecticide.
062719-0471 | Mach 2 2SC.
062719-0472 | Mach 2 2.5% Granular Turf Insecticide.
062719-0473 | Mach 2 1.5G Specialty Insecticide.
062719-0474 | Mach 2 Plus Fertilizer 0.86% A.I.
062719-0475 | Mach 2 Plus Fertilizer 0.57% A.I.
062719-0476 | Mach 2 Manufacturing Use Concentrate.
062719-0489 | Mach 2 Plus Fertilizer (1.0% A.I.).
062719-0490 | Mach 2 Plus Fertilizer (1.33% A.I.).

Table 2 of this unit includes the names and addresses of record for all registrants of the products in Table 1 of this unit, in sequence by EPA company number. This number corresponds to the first part of the EPA registration numbers of the products listed above.

Table 2—Registrants of Canceled Products
EPA Company No. | Company name and address
38167 | Helena Chemical Company, d/b/a Setre Chemical Company, 225 Schilling Boulevard, Suite 300, Collierville, TN 38017.
62719 | Dow AgroSciences LLC, 9330 Zionsville Road 308/2E, Indianapolis, IN 46268-1054.

III. Summary of Public Comments Received and Agency Response to Comments

During the public comment period provided, EPA received no comments in response to the September 26, 2012 Federal Register notice announcing the Agency's receipt of the requests for voluntary cancellation and termination of all uses of products listed in Table 1 of Unit II.

IV. Cancellation Order

Pursuant to FIFRA section 6(f), EPA hereby approves the requested cancellation and termination of all uses of halofenozide registrations identified in Table 1 of Unit II. Accordingly, the Agency hereby orders that the product registrations identified in Table 1 of Unit II. are canceled and all uses of halofenozide are terminated. The effective date of the cancellations that are the subject of this notice is December 21, 2012. Any distribution, sale, or use of existing stocks of the products identified in Table 1 of Unit II. in a manner inconsistent with any of the provisions for disposition of existing stocks set forth in Unit VI. will be a violation of FIFRA.

V. What is the agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment on September 26, 2012 (77 FR 59190) (FRL-9362-9). The comment period closed on October 26, 2012.

VI. Provisions for Disposition of Existing Stocks

Existing stocks are those stocks of registered pesticide products which are currently in the United States and which were packaged, labeled, and released for shipment prior to the effective date of the action. The existing stocks provision for the products subject to this order is as follows.

The registrants may continue to sell and distribute existing stocks of products listed in Table 1 until December 23, 2013, which is 1 year after publication of this cancellation order in the Federal Register. Thereafter, the registrants are prohibited from selling or distributing products listed in Table 1 of Unit II., except for export in accordance with FIFRA section 17 or for proper disposal.

Persons other than the registrant may sell, distribute, or use existing stocks of canceled products until supplies are exhausted, provided that such sale, distribution, or use is consistent with the terms of the previously approved labeling on, or that accompanied, the canceled products.

List of Subjects

Environmental protection, Pesticides and pests, halofenozide.

Dated: December 12, 2012.
Richard P. Keigwin, Jr.,
Director, Pesticide Re-evaluation Division, Office of Pesticide Programs.

[FR Doc. 2012-30692 Filed 12-20-12; 8:45 am]

BILLING CODE 6560-50-P